DEPARTMENT OF HOUSING AND URBAN DEVELOPMENT

[Docket No. FR-5909-N-37]

30-Day Notice of Proposed Information Collection: Public Housing Reform Act: Changes to Admission and Occupancy Requirements

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: June 23, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on March 29, 2016 at 81 FR 17487.

A. Overview of Information Collection

Title of Information Collection: Public Housing Reform Act: Changes to Admission and Occupancy Requirements.

OMB Approval Number: 2577-0230.

Type of Request: Revision of currently approved collection.

Form Number: None.

Description of the need for the information and proposed use: The purpose of this information collection submission is to implement the requirement that public housing agencies have available upon request, their respective admission and occupancy policies for both the public and the Department of Housing and Urban Development. Public Housing Authorities must have on hand and available for inspection policies related to admission and continued occupancy, so as to respond to inquiries from tenants, legal-aid services, HUD, and other interested parties informally or through the Freedom of Information Act. Written documentation of policies relating to Public Housing and Section 8 Assistance Programs implemented under the Quality Housing and Work Responsibility Act of 1998, such as eligibility for admission and continued occupancy, local preferences, and rent determination, must be maintained and made available by Public Housing Authorities.

The collection of information implements changes to the admission and occupancy Requirements for the Public Housing and Section 8 Assisted Housing Programs made by the Quality Housing and Work Responsibility (QHWRA) Act 1998, (Title V of the FY 1999 HUD appropriations Act, Public Law 105-276, 112 Stat. 2518, approved October 21, 1998), which amended the United States Housing Act of 1937. QHWRA made comprehensive changes to HUD's Public Housing Section 8 Programs. Some of the changes made by the 1998 Act (i.e., QHWRA) affect public housing only and others affect the Section 8 and Public Housing Programs. These changes cover choice of rent, community service and self-sufficiency in public housing; and admission preferences and determination of income and rent in public housing and Section 8 Housing Assistance Programs.

Revisions are made to this collection to reflect adjustments in calculations based on the total number of current, active public housing agencies (PHAs) to date. The number of active public housing agencies has changed from 4,058 to 3,946 since the last approved information collection. The number of PHAs can fluctuate due to a number of factors, including but not limited to the merging of two or more PHAs or the termination of the public housing and/or voucher programs.

Respondents (i.e. affected public): State, Local or Tribal Government.

Estimated Number of Respondents: 3, 946.

Estimated Number of Responses: 3, 946.

Frequency of Response: 1.

Average Hours per Response: 24.

Total Estimated Burdens: 94,704.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapter 35.

Dated: May 18, 2016.
Colette Pollard,
Department Reports Management Officer, Office of the Chief Information Officer.

[FR Doc. 2016-12244 Filed 5-23-16; 8:45 am]

BILLING CODE 4210-67-P